ENVIRONMENTAL PROTECTION AGENCY

[EPA-HQ-ORD-2021-0561; FRL-9486-01-ORD]

Availability of the Draft IRIS Toxicological Review of Perfluorohexanoic Acid (PFHxA) and Related Salts

AGENCY: Environmental Protection Agency (EPA).

ACTION: Notice of public comment period.

SUMMARY: The Environmental Protection Agency (EPA) is announcing a 60-day public comment period associated with release of the draft Integrated Risk Information System (IRIS) Toxicological Review of Perfluorohexanoic Acid (PFHxA) and Related Salts. The draft document was prepared by the Center for Public Health and Environmental Assessment (CPHEA) within EPA's Office of Research and Development (ORD). EPA is releasing this draft IRIS assessment for public comment in advance of an independent external peer review organized by ERG, a contractor to EPA. The external peer reviewers will be provided with all written comments submitted in response to this notice for their consideration as they conduct their review. To receive future notification about the peer review, sign up for EPA's IRIS listserv, as described in this notice. EPA will consider all comments received when revising the document post-peer review. This draft assessment is not final as described in EPA's information quality guidelines, and it does not represent, and should not be construed to represent Agency policy or views.

DATES: The 60-day public comment period begins February 2, 2022 and ends April 4, 2022. Comments must be received on or before April 4, 2022.

ADDRESSES: The IRIS Toxicological Review of Perfluorohexanoic Acid (PFHxA) and Related Salts will be available via the internet on the IRIS website at https://www.epa.gov/iris/iris-recent-additions and in the public docket at http://www.regulations.gov, Docket ID No. EPA-HQ-ORD-2021-0561.

FOR FURTHER INFORMATION CONTACT: For information on the public comment period, contact the ORD Docket at the EPA Headquarters Docket Center; telephone: 202-566-1752; facsimile: 202-566-9744; or email: Docket_ORD@epa.gov.

For technical information on the IRIS Toxicological Review of Perfluorohexanoic Acid (PFHxA) or information on the public comment period, contact Dr. Andrew Kraft, CPHEA; telephone: 202-564-0286; or email: kraft.andrew@epa.gov. The IRIS Program will provide updates through the IRIS website (https://www.epa.gov/iris) and via EPA's IRIS listserv. To register for the IRIS listserv, visit the IRIS website (https://www.epa.gov/iris) or visit https://www.epa.gov/iris/forms/staying-connected-integrated-risk-information-system#connect.

For questions about the peer review, please contact: Laurie Waite, ERG, by email at laurie.waite@erg.com (subject line: EPA PFHxA peer review); or by phone: 781-674-7362.

SUPPLEMENTARY INFORMATION:

I. Background

Information on IRIS PFAS Assessments

Per- and polyfluoroalkyl substances (PFAS) are a large class of man-made chemicals widely used in consumer products and industrial processes. The basic structure of PFAS consists of a carbon chain surrounded by fluorine atoms, with different chemicals possessing different end groups. The five IRIS toxicity assessments are being developed according to the scope and methods outlined in the publicly posted systematic review protocol (https://cfpub.epa.gov/ncea/iris_drafts/recordisplay.cfm?deid=345065) and they build upon several other PFAS assessments that have already been developed, and represent only one component of the broader PFAS action plan underway at the U.S. EPA (https://www.epa.gov/pfas/epas-pfas-action-plan).

EPA previously announced peer review activities related to five IRIS five per- and polyfluoroalkyl substances (PFAS) Integrated Risk Information System (IRIS) assessments including: Perfluorodecanoic acid (PFDA; CASRN 335-76-2), perfluorononanoic acid (PFNA; CASRN 375-24-4), perfluorohexanoic acid (PFHxA, CASRN 307-24-4), perfluorohexanesulfonic acid (PFHxS, CASRN 355-46-4), and perfluorobutanoic acid (PFBA, CASRN 375 22 4) and their related salts. These documents will undergo independent external scientific peer review managed by ERG, a contractor to EPA. EPA will provide updates on the status of the peer review for PFHxA via the IRIS website (https://www.epa.gov/iris) and IRIS listserv. EPA encourages all interested stakeholders to register for the IRIS listserv by visiting the IRIS website at https://www.epa.gov/iris/forms/staying-connected-integrated-risk-information-system#connect. Specific questions or comments on the peer review process should be directed to ERG.

II. How To Submit Technical Comments to the Docket at https://www.regulations.gov

Submit your comments, identified by Docket ID No. EPA-HQ-ORD-2021-0561 for the Perfluorohexanoic Acid (PFHxA) IRIS Assessment, by one of the following methods:

• www.regulations.gov: Follow the on-line instructions for submitting comments.

• Email: Docket_ORD@epa.gov.

• Fax: 202-566-9744. Due to COVID-19, there may be a delay in processing comments submitted by fax.

• Mail: U.S. Environmental Protection Agency, EPA Docket Center (ORD Docket), Mail Code: 28221T, 1200 Pennsylvania Avenue NW, Washington, DC 20460. The phone number is 202-566-1752. Due to COVID-19, there may be a delay in processing comments submitted by mail.

For information on visiting the EPA Docket Center Public Reading Room, visit https://www.epa.gov/dockets. Due to public health concerns related to COVID-19, the EPA Docket Center and Reading Room may be closed to the public with limited exceptions. The telephone number for the Public Reading Room is 202-566-1744. The public can submit comments via www.regulations.gov or email.

Instructions: Direct your comments to docket number EPA-HQ-ORD-2021-0561 for the Perfluorohexanoic Acid (PFHxA) IRIS Assessment.

Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information for which disclosure is restricted by statute. Do not submit information through www.regulations.gov or email that you consider to be CBI or otherwise protected. The www.regulations.gov website is an “anonymous access” system, which means EPA will not know your identity or contact information unless you provide it in the body of your comment. If you send an email comment directly to EPA without going through www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Timothy Watkins,
Acting Director, Center for Public Health & Environmental Assessment.

[FR Doc. 2022-02050 Filed 2-1-22; 8:45 am]

BILLING CODE 6560-50-P